DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: National Flood Insurance Program—Mapping Needs Update Support System (MNUSS).

Type of Information Collection: Existing collection in use without a control number.

OMB Number: 1660-New.

Abstract: To fulfill the mandate specified in section 575 of the National Flood Insurance Reform Act (NFIRA), FEMA established the Mapping Needs Assessment process and the MNUSS database in order to effectively identify and document data regarding community flood hazard mapping needs. MNUSS is designed to store mapping needs at the community level. The current version of MNUSS is an interactive, web-enabled password protected database. In order to facilitate the identification and collection of communities' current flood hazard mapping needs for input into MNUSS, FEMA developed the MNUSS Data Worksheet.

Flood hazard mapping needs information enables FEMA to be more responsive to ongoing changes affecting flood hazard areas that occur in communities participating in the NFIP. The changes include, but are not limited to, new corporate limit boundaries, changes in the road network, and changes in flood hazard areas, which affect communities' flood risks. The information is also used in providing justification for FEMA when requesting funding for flood map updates and is used along with other information to prioritize the flood hazard mapping needs of all mapped communities participating in the NFIP to assist in the allocation of annual funds for flood hazard map updates.

Affected Public: State, Local, and Tribal Governments.

Number of Respondents: 1,800.

Estimated Time per Respondent: 2.5 hours.

Estimated Total Annual Burden Hours: 8,400 hours.

Frequency of Response: Once every five years.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security, 500 C Street, SW., Room 316, Washington, DC 20472, facsimile number (202) 646-3347, or email address: InformationCollections@fema.gov.

Dated: July 7, 2003.
Edward W. Kernan,
Division Director, Information Resource Management Division, Information Technology Services Directorate.

[FR Doc. 03-17737 Filed 7-11-03; 8:45 am]

BILLING CODE 6718-01-P